DEPARTMENT OF ENERGY

Federal Energy Regulatory Commission

[Docket No. RP02-146-000]

Columbia Gulf Transmission Company; Notice of Proposed Changes in FERC Gas Tariff

January 23, 2002.

Take notice that on January 15, 2002, Columbia Gulf Transmission Company (Columbia Gulf) tendered for filing as part of its FERC Gas Tariff, Second Revised Volume No. 1 (Tariff), the following revised tariff sheets, with a proposed effective date of February 1, 2002:

Twenty-eighth Revised Sheet No. 18

Eighteenth Revised Sheet No. 18A

Twenty-ninth Revised Sheet No. 19

Columbia Gulf states that it is submitting a “Periodic TRA Filing,” pursuant to the provisions of Section 33, “Transportation Retainage Adjustment (TRA),” of the General Terms and Conditions (GTC) of its FERC Gas Tariff, Second Revised Volume No. 1 (Tariff). GTC Section 33 provides for Columbia Gulf's required annual (the Annual TRA filed on March 1 of each year) and discretionary periodic adjustments (the Periodic TRA) to the applicable transportation retainage percentages in its Tariff. This Periodic TRA Filing reduces the applicable transportation retainage percentages on Columbia Gulf.

Columbia Gulf states that copies of its filing are available for inspection at its offices at 12801 Fair Lakes Parkway, Fairfax, Virginia; 2603 Augusta, Suite 124, Houston, Texas; and 10 G Street NE, Suite 580, Washington, DC; and have been mailed to all firm customers, interruptible customers, and affected state commissions.

Any person desiring to protest said filing should file a protest with the Federal Energy Regulatory Commission, 888 First Street, NE, Washington, DC 20426, in accordance with section 385.211 of the Commission's Rules and Regulations. All such protests must be filed in accordance with section 154.210 of the Commission's Regulations. Protests will be considered by the Commission in determining the appropriate action to be taken, but will not serve to make protestants parties to the proceedings. Copies of this filing are on file with the Commission and are available for public inspection. This filing may also be viewed on the Web at http://www.ferc.gov using the “RIMS” link, select “Docket#” and follow the instructions (call 202-208-2222 for assistance). Comments, protests and interventions may be filed electronically via the Internet in lieu of paper. See, 18 CFR 385.2001(a)(1)(iii) and the instructions on the Commission's Web site under the “e-Filing” link.

Linwood A. Watson, Jr.,
Acting Secretary.

[FR Doc. 02-2107 Filed 1-28-02; 8:45 am]

BILLING CODE 6717-01-P